DEPARTMENT OF LABOR

Employment and Training Administration

[TA-W-56,339]

Mastercraft Fabrics, LLC, Joan Fabrics Corporation, Eagle Mountain Finishing Cramerton, NC; Amended Certification Regarding Eligibility To Apply for Worker Adjustment Assistance

In accordance with section 223 of the Trade Act of 1974 (19 U.S.C. 2273) the Department of Labor issued a Certification of Eligibility to Apply for Worker Adjustment Assistance on January 28, 2005, applicable to workers of Mastercraft fabrics LLC, Eagle Mountain Finishing, Cramerton, North Carolina. The notice was published in the Federal Register on March 9, 2005 (70 FR 11705).

At the request of the company, the Department reviewed the certification for workers of the subject firm. The workers are engaged in the production of finished fabric.

New information shows that Joan Fabrics Corporation is the parent firm of Mastercraft Fabrics LLC, Eagle Mountain Finishing.

Workers separated from employment at the subject firm had their wages reported under a separate unemployment insurance (UI) tax account for Joan Fabrics Corporation.

Accordingly, the Department is amending the certification to properly reflect this matter.

The intent of the Department's certification is to include all workers of Mastercraft Fabrics LLC, Eagle Mountain Finishing, Cramerton, North Carolina who were adversely affected by a shift in production of finished fabric to Mexico.

The amended notice applicable to TA-W-56,339 is hereby issued as follows:

“All workers of Mastercraft Fabrics LLC, Joan Fabrics Corporation, Eagle Mountain Finishing, Cramerton, North Carolina, who became totally or partially separated from employment on or after January 12, 2004, through January 28, 2007, are eligible to apply for adjustment assistance under Section 223 of the Trade Act of 1974.”

Signed at Washington, DC this 14th day of March 2005.
Richard Church,
Certifying Officer, Division of Trade Adjustment Assistance.

[FR Doc. E5-1357 Filed 3-25-05; 8:45 am]

BILLING CODE 4510-30-P